DEPARTMENT OF COMMERCE

Bureau of the Census

[Docket Number 171002956-7974-01]

Census Designated Places (CDPs) for the 2020 Census—Proposed Criteria

AGENCY: Bureau of the Census, Commerce.

ACTION: Notice of proposed program and request for comments.

SUMMARY: The Census Bureau is publishing this notice in the Federal Register to request comments from the public and other government agencies on the criteria and guidelines for identifying Census designated places (CDPs). The Census Bureau will respond to the comments in the Federal Register notice announcing the final criteria. After the final criteria are published in the Federal Register, the Census Bureau will offer designated governments or organizations an opportunity to review and, if necessary, suggest updates to the boundaries and attributes of the CDPs in their geographic area under the Participant Statistical Areas Program (PSAP). In separate Federal Register notices, the PSAP program is seeking comment on the review and update of census tracts, block groups, and census county divisions.

DATES: Written comments must be submitted on or before May 14, 2018.

ADDRESSES: Please direct all written comments on this proposed program to Vincent Osier, Geographic Standards, Criteria, and Quality Branch, Geography Division, U.S. Census Bureau, Room 4H173, 4600 Silver Hill Road, Washington, DC 20233-7400. Email: geo.psap.list@census.gov. Phone: 301-763-3056 (PSAP Hotline).

FOR FURTHER INFORMATION CONTACT: Requests for additional information on this proposed program should be directed to Vincent Osier, Geographic Standards, Criteria, and Quality Branch, Geography Division, U.S. Census Bureau, Room 4H173, 4600 Silver Hill Road, Washington, DC 20233-7400. Email: geo.psap.list@census.gov. Phone: 301-763-3056 (PSAP hotline).

SUPPLEMENTARY INFORMATION:

I. History

Census designated places (CDPs) ¹ are statistical geographic entities representing closely settled, unincorporated communities that are locally recognized and identified by name. They are the statistical equivalents of incorporated places, with the primary differences being the lack of both a legally defined boundary and an active, functioning governmental structure, chartered by the state and administered by elected officials. CDPs defined for the 2020 Census will also be used to tabulate American Community Survey, Puerto Rico Community Survey, and Economic Census data after 2020, and potentially data from other Bureau of the Census (Census Bureau) censuses and surveys.

¹ The term CDP includes comunidades and zonas urbanas in Puerto Rico.

The CDP concept and delineation criteria have evolved over the past six decades in response to data user needs for place-level data. This evolution has taken into account differences in the way in which places were perceived, and the propensity for places to incorporate in various states. The result, over time, has been an increase in the number and types of unincorporated communities identified as CDPs, as well as increasing consistency in the relationship between the CDP concept and the kinds of places encompassed by the incorporated place category, or a compromise between localized perceptions of place and a concept that would be familiar to data users throughout the United States, Puerto Rico, and the Island Areas.

Although not as numerous as incorporated places or municipalities,² CDPs have been important geographic entities since their introduction for the 1950 Census (CDPs were referred to as “unincorporated places” in the 1950, 1960 and 1970 decennial censuses). For the 1950 Census, CDPs were defined only outside urbanized areas and were required to have at least 1,000 residents. For the 1960 Census, CDPs could also be identified inside urbanized areas outside of New England, but these were required to have at least 10,000 residents. The Census Bureau modified the population threshold within urbanized areas to 5,000 residents in 1970, allowed for CDPs in urbanized areas in New England in 1980, and lowered the threshold for CDPs within urbanized areas to 2,500 in 1990. In time, other population thresholds were adopted for identification of CDPs in Alaska, Puerto Rico, the Island Areas, and on American Indian reservations (AIRs). The Census Bureau eliminated all population threshold requirements for Census 2000, achieving consistency between CDPs and incorporated places, for which the Census Bureau historically has published data without regard to population size.

² Known by various terms throughout the United States: Cities, towns (except in the six New England states, New York, and Wisconsin), villages, and boroughs (except in New York and Alaska).

According to the 2010 Census, more than 38.7 million people in the United States,³ Puerto Rico, and the Island Areas ⁴ lived in CDPs. The relative importance of CDPs varies from state to state depending on laws governing municipal incorporation and annexation, but also depending on local preferences and attitudes regarding the identification of places.

³ For Census Bureau purposes, the United States typically refers to only the fifty states and the District of Columbia and does not include the U.S. territories (Puerto Rico, the Island Areas, and the U.S. Minor Outlying Islands).

⁴ The Island Areas include the U.S. territories American Samoa, the Commonwealth of the Northern Mariana Islands, Guam, and the U.S. Virgin Islands. There are no CDPs in American Samoa or the Commonwealth of the Northern Mariana Islands because villages are considered incorporated places and cover the entire territory and population in each territory.

II. CDP Criteria and Guidelines for the 2020 Census

The criteria proposed herein apply to the United States, including AIRs and off-reservation trust lands, Puerto Rico, and the Island Areas. In accordance with the final criteria, the Census Bureau may modify and, if necessary, reject any proposals for CDPs that do not meet the established criteria. In addition, the Census Bureau reserves the right to modify the boundaries and attributes of CDPs as needed to maintain geographic relationships before the final tabulation geography is set for the 2020 Census.

The Census Bureau proposes the following criteria and guidelines for use in identifying the areas that will qualify for designation as CDPs for use in tabulating data from the 2020 Census, the American Community Survey, the Puerto Rico Community Survey, the Economic Census, and potentially other Census Bureau censuses and surveys.

1. A CDP constitutes a single, closely settled center of population that is named. To the extent possible, individual unincorporated communities should be identified as separate CDPs. Similarly, a single community should be defined as a single CDP rather than multiple CDPs with each part referencing the community name and a directional term (i.e., north, south, east, or west). Since a CDP is defined to provide data for a single, named locality, the Census Bureau generally will not accept combinations of places and hyphenated place names defined as a CDP. In the past, communities were often combined as a single CDP in order to comply with the Census Bureau's former minimum population requirements. The Census Bureau's elimination of population threshold criteria starting with Census 2000 made such combinations unnecessary. Other communities were combined because visible features were not available for use as boundaries for separate CDPs. The Census Bureau's policy to allow the use of some nonvisible boundaries so that participants can separate individual communities has dispensed with the need to have multi-place CDPs.

Multiple communities may only be combined to form a single CDP when the identities of these communities have become so intertwined that the communities are commonly perceived and referenced as a single place. For example, the communities of Arden and Arcade in California have grown together over time and residents commonly use the place name Arden-Arcade. Further, because of the intertwined identity, residents would have difficulty identifying a boundary between the separate, historical communities of Arden and Arcade. Multiple communities may also be defined as a single CDP when there are no distinguishable or suitable features in the landscape that can be used as a boundary between the communities, even if the two communities still have separate identities. For example, the CDP of Ashton-Sandy Spring in Maryland encompasses two communities that still maintain separate identities in common, daily usage. The two communities, however, have grown together to such an extent that a clear break between the two communities is no longer identifiable in the landscape. In general, when considering whether to combine multiple communities as a single CDP, the following questions should be taken into account:

• Do residents commonly perceive and refer to the communities as a single entity?

• Are there landscape elements, such as signs, that use a hyphenated name for the community?

• Can residents or other knowledgeable individuals identify clear, commonly accepted boundaries for the individual communities?

2. A CDP generally consists of a contiguous cluster of census blocks comprising a single piece of territory and containing a mix of residential, nonresidential, and commercial uses similar to that of an incorporated place of similar size. Some CDPs, however, may be predominantly residential. Such places should represent recognizably distinct, locally known communities, but not typical suburban subdivisions. Examples of such predominantly residential communities that can be recognized as CDPs are colonias, small rural communities, and unincorporated resort and retirement communities.

3. A CDP may not be located, either partially or entirely, within an incorporated place or another CDP.

4. A CDP may be located in more than one county but must not cross state boundaries. It is important to note, however, that since county boundaries provide important demarcations for communities, CDPs that cross county lines should be kept to a minimum and identified only when the community clearly sees itself existing on both sides of a county boundary.

5. There are no minimum population or housing unit thresholds for defining CDPs; however, a CDP must contain some population or housing units or both. For the 2020 Census, the Census Bureau will not accept a CDP delineated with zero population and zero housing units. The Census Bureau recognizes that some communities, such as a resort or other kinds of seasonal communities, may lack population at certain times of the year. Nevertheless, there should be some evidence, generally in the form of houses, barracks, dormitories, commercial buildings and/or other nonresidential structures, providing the basis for local perception of the place's existence. The Census Bureau will review the number of housing units within the place, as reported in the previous decennial census or as seen in imagery, and consider whether additional information is needed before recognizing the CDP. Participants submitting boundaries for places with less than ten housing units may be asked to provide additional information attesting to the existence of the CDP.

6. CDP boundaries should follow visible features, except in those circumstances when a CDP's boundary is coincident with the nonvisible boundary of a state, county, minor civil division (in the six New England states, Michigan, Minnesota, New Jersey, New York, Pennsylvania, and Wisconsin), or incorporated place. CDP boundaries may follow other nonvisible features in instances where reliance upon visible features would result in overbounding of the CDP in order to include housing units on both sides of a road or street feature. Such boundaries might include parcel boundaries and public land survey system lines; fence lines; national, state, or local park boundaries; ridgelines; or drainage ditches.

7. The CDP name should be one that is recognized and used in daily communication by the residents of the community. Because unincorporated communities generally lack legally defined boundaries, a commonly used community name and the geographic extent of its use by local residents is often the best identifier of the extent of a place. The assumption being that if residents associate with a particular name and use it to identify the place in which they live, then the CDP's boundaries can be mapped based on the use of the name. There should be features in the landscape that use the name, such that a non-resident would have a general sense of the location or extent of the community; for example, signs indicating when one is entering the community; highway exit signs that use the name; or businesses, schools, or other buildings that make use of the name. It should not be a name developed solely for planning or other purposes (including simply to obtain data from the Census Bureau) that is not in regular daily use by the local residents and business establishments.

8. A CDP may not have the same name as an adjacent or nearby incorporated place. If the community does not have a name that distinguishes it from other nearby communities, then the community is not a distinct place. The use of directional terms (“north,” “south,” “east,” “west,” and so forth) to merely differentiate the name of a CDP from a nearby municipality where this name is not in local use is not acceptable. Again, this has much to do with the way in which people typically refer to the places in which they live. It is permissible to change the name of a 2010 CDP for the 2020 Census if the new name provides a better identification of the community.

III. Definitions of Key Terms

American Indian off-reservation trust land—An area of land located outside the boundaries of an AIR whose boundaries are established by deed and which are held in trust by the U.S. federal government for a federally recognized American Indian tribe or members of that tribe.

American Indian reservation (AIR)—An area of land with boundaries established by final treaty, statute, executive order, and/or court order and over which a federally recognized American Indian tribal government has governmental authority. Along with “reservation,” designations such as colonies, communities, pueblos, rancherias, and reserves apply to AIRs.

Census block—A geographic area bounded by visible and/or invisible features shown on a map prepared by the Census Bureau. A block is the smallest geographic entity for which the Census Bureau tabulates and publishes decennial census data.

Census county division (CCD)—Areas delineated by the Census Bureau in cooperation with state, tribal, and local officials for statistical purposes. CCDs have no legal function and are not governmental units. CCD boundaries usually follow visible features and usually coincide with census tract boundaries. The name of each CCD is based on a place, county, or well-known local name that identifies its location.

Coextensive—A description of two or more geographic entities that cover exactly the same area, with all boundaries shared.

Colonia—A small, generally unincorporated community located in one of the states on the U.S.-Mexico border where residents often build or provide their own housing and that usually lacks utilities, paved roads, and other infrastructure typically found other similarly sized communities.

Comunidad—A CDP in Puerto Rico that is not related to a municipio's seat of government, called an aldea or a ciudad prior to the 1990 Census.

Contiguous—A description of areas sharing common boundary lines, more than a single point, such that the areas, when combined, form a single piece of territory. Noncontiguous areas form disjoint pieces.

Housing unit—A house, an apartment, a mobile home or trailer, or a group of rooms or a single room occupied as a separate living quarter or, if vacant, intended for occupancy as a separate living quarter. Separate living quarters are those in which the occupants live and eat separately from any other residents of the building and which have direct access from outside the building or through a common hall.

Incorporated place—A type of governmental unit, incorporated under state law as a city, town (except in New England, New York, and Wisconsin), borough (except in Alaska and New York), or village, generally to provide governmental services for a concentration of people within legally prescribed boundaries.

Minor civil division (MCD)—The primary governmental or administrative division of a county in 28 states and the Island Areas having legal boundaries, names, and descriptions. The MCDs represent many different types of legal entities with a wide variety of characteristics, powers, and functions depending on the state and type of MCD. In some states, some or all of the incorporated places also constitute MCDs.

Municipio—A type of governmental unit that is the primary legal subdivision of Puerto Rico. The Census Bureau treats the municipio as the statistical equivalent of a county.

Nonvisible feature—A map feature that is not visible on the ground and in imagery such as a city or county boundary through space, a property line, or line-of-sight extension of a road.

Statistical geographic entity—A geographic entity that is specially defined and delineated, such as block group, CDP, or census tract, so that the Census Bureau may tabulate data for it. Designation as a statistical entity neither conveys nor confers legal ownership, entitlement, or jurisdictional authority.

Urbanized area (UA)—An area consisting of a central place(s) and adjacent urban fringe that together have a minimum residential population of at least 50,000 people and generally an overall population density of at least 1,000 people per square mile. The Census Bureau uses published criteria to determine the qualification and boundaries of UAs at the time of each decennial census.

Visible feature—A map feature that can be seen on the ground and in imagery, such as a road, railroad track, major above-ground transmission line or pipeline, river, stream, shoreline, fence, sharply defined mountain ridge, or cliff. A nonstandard visible feature is a feature that may not be clearly defined on the ground (such as a ridge), may be seasonal (such as an intermittent stream), or may be relatively impermanent (such as a fence). The Census Bureau generally requests verification that nonstandard features used as boundaries for the PSAP geographic areas pose no problem in their location during field work.

Zona urbana—In Puerto Rico, the settled area functioning as the seat of government for a municipio. A zona urbana cannot cross a municipio boundary.

Dated: January 22, 2018.
Ron S. Jarmin,
Associate Director for Economic Programs, Performing the Non-Exclusive Functions and Duties of the Director, Bureau of the Census.

[FR Doc. 2018-02623 Filed 2-14-18; 8:45 am]

BILLING CODE 3510-07-P